COMMISSION ON CIVIL RIGHTS

Agenda and Notice of Public Meeting of the Michigan Advisory Committee

Notice is hereby given, pursuant to the provisions of the rules and regulations of the U.S. Commission on Civil Rights, that a planning meeting with briefing of the Michigan Advisory Committee to the Commission will convene from 9:00 a.m. and adjourn at 5:00 p.m. on Thursday, June 27, 2002, at the Hotel Pontchartrain, Two Washington Boulevard, Detroit, Michigan 48226. The purpose of the planning meeting with briefing is to discuss Muslim and Arab American civil rights issues post 9/11, and plan future activities.

Persons desiring additional information, or planning a presentation to the Committee, should contact Committee Chairperson Jack Martin, (248) 645-5370, or Constance M. Davis, Director of the Midwestern Regional Office, 312-353-8311 (TDD 312-353-8362). Hearing-impaired persons who will attend the meeting and require the services of a sign language interpreter should contact the Regional Office at least ten (10) working days before the scheduled date of the meeting.

The meeting will be conducted pursuant to the provisions of the rules and regulations of the Commission.

Dated at Washington, DC, June 11, 2002.
Ivy L. Davis,
Chief, Regional Programs Coordination Unit.

[FR Doc. 02-15125 Filed 6-14-02; 8:45 am]

BILLING CODE 6335-01-P